DEPARTMENT OF LABOR

Employment and Training Administration

[TA-W-38,073]

Wolverine World Wide, Inc., Rockford, MI; Notice of Termination of Investigation

Pursuant to section 221 of the Trade Act of 1974, an investigation was initiated on September 11, 2000 in response to a worker petition which was filed on behalf of workers at Wolverine World Wide, Incorporated, Rockford, Michigan.

The investigation revealed that an active certification covering the petitioning group of workers remains in effect (TA-W-35,149). That certification expires on January 25, 2001. Consequently, further investigation in this case would serve no purpose, and the investigation has been terminated.

Signed at Washington, D.C. this 12th day of October 2000.
Linda G. Poole,
Certifying Officer, Division of Trade Adjustment Assistance.

[FR Doc. 00-27569 Filed 10-25-00; 8:45 am]

BILLING CODE 4510-30-M